COMMITTEE FOR PURCHASE FROM PEOPLE WHO ARE BLIND OR SEVERELY DISABLED

Agency Information Collection Activities; Proposed Information Collection; Comment Request

AGENCY: Committee for Purchase From People Who Are Blind or Severely Disabled.

ACTION: Proposed collection, Comment request for renewal of existing information collection instruments (Committee Form 401 and Committee Form 402).

SUMMARY: The Committee for Purchase From People Who Are Blind or Severely Disabled is inviting public comment on the proposed collection of information. Under the Paperwork Reduction Act of 1995, Federal agencies are required to publish notice in the Federal Register concerning each proposed collection of information, and to allow 60 days for public comment in response to the notice. This notice solicits comments on requirements relating to the initial certification of nonprofit agencies serving people who are blind or who have other severe disabilities (Committee Forms 401 and 402). The Committee is particularly interested in comments that help the agency to: (1) Evaluate whether the proposed collection of information is necessary for the proper performance of the functions of the agency, including whether the information will have practical utility; (2) Evaluate the accuracy of the agency's estimate of the burden of the proposed collection of information including the validity of the methodology and assumptions used; (3) Enhance the quality, utility and clarity of the information to be collected; and (4) Minimize the burden of the collection of information on those who are to respond, including through the use of appropriate automated electronic, mechanical, or other technological collection techniques or other forms of information technology, e.g., permitting electronic submissions of responses.

DATES: Submit comments on or before January 29, 2002.

ADDRESSES: Comments and requests for copies of the proposed information collection instruments should be submitted to: Janet Yandik, Information Management Specialist, Committee for Purchase From People Who Are Blind or Severely Disabled, Jefferson Plaza 2, Suite 10800, 1421 Jefferson Davis Highway, Arlington, VA 22202-3259; e-mail: jyandik@jwod.gov; phone: (703) 603-7746, fax (703) 603-0655.

FOR FURTHER INFORMATION CONTACT: Same as above.

SUPPLEMENTARY INFORMATION: The Committee has two initial certification forms, one for nonprofit agencies serving people who are blind and one for nonprofit agencies primarily serving people who have other severe disabilities. The information included on the forms is required to ensure that nonprofit agencies requesting to participate in the Committee's program continue to meet the requirements of 41 USC 46-48c.

Title: Initial Certification—Qualified Nonprofit Agency Serving People Who Are Blind, Committee Form 401.

OMB Number: 3037-0004.

Agency Number: 3037.

Frequency: 1 time.

Affected Public: Nonprofit agencies serving people who are blind seeking to participate in the Javits-Wagner-O'Day (JWOD) program.

Number of Respondents: 5.

Estimated Time Per Respondent: 1 hour.

Total Burden Hours: 5.

Total Annual costs: $0.

Title: Initial Certification—Qualified Nonprofit Agency Serving People Who Are Severely Disabled, Committee Form 402.

OMB Number: 3037-0003.

Agency Number: 3037.

Frequency: 1 time.

Affected Public: Nonprofit agencies serving people who are severely disabled seeking to participate in the JWOD program.

Number of Respondents: 50.

Estimated Time Per Respondent: 1 hour.

Total Burden Hours: for 50.

Total Annual costs: $0.

Sheryl D. Kennerly,
Director, Information Management.

[FR Doc. 01-29784 Filed 11-29-01; 8:45 am]

BILLING CODE 6353-01-P